DEPARTMENT OF THE INTERIOR

Bureau of Land Management

[AZ-956-05-1420-BJ]

Notice of Filing of Plats of Survey; Arizona

AGENCY: Bureau of Land Management, Interior.

ACTION: Notice.

SUMMARY: The plats of survey described below are scheduled to be officially filed in the Arizona State Office, Bureau of Land Management, Phoenix, Arizona, (30) thirty calendar days from the date of this publication.

SUPPLEMENTARY INFORMATION: The Gila and Salt River Meridian, Arizona:

The plat representing a metes-and-bounds survey in section 36, Township 15 North, Range 5 East, accepted August 8, 2005, and officially filed August 18, 2005, for Group 917 Arizona.

This plat was prepared at the request of the National Park Service.

The plat representing the dependent resurvey of a portion of the south and west boundaries and a portions of the subdivision lines, The subdivision of section 31 and a metes-and-bounds surveys in section 31, Township 15 North, Range 6 East, accepted August 8, 2005, and officially filed August 18, 2005, for Group 917 Arizona.

This plat was prepared at the request of the National Park Service.

The plat representing the dependent resurvey of a portion of the subdivisional lines, the subdivision of section 28, Townships 29 North, Range 9 East, accepted August 8, 2005, and officially filed August 18, 2005 for Group 942 Arizona.

This plat was prepared at the request of the Bureau of Indian Affairs, Navajo Regional Office.

The plat (3 sheets) representing the survey of a portion of the east boundary, and a portion of the subdivisional lines, Township 30 North, Range 11 East, accepted June 7, 2005, and officially filed June 16, 2005 for Group 906 Arizona.

This plat was prepared at the request of the Bureau of Indian Affairs, Western Region Office.

The plat (3 sheets) representing the dependent resurvey of the north boundary, and the survey of a portion of the south and north boundaries and a portion of the subdivisional lines, Township 31 North, Range 12 East, accepted June 7, 2005, and officially filed June 16, 2005 for Group 909 Arizona.

This plat was prepared at the request of the Bureau of Indian Affairs, Western Region Office.

The plat representing the dependent resurvey of the south, east, west and north boundaries, and the subdivisional lines, Township 31 North, Range 14 East, accepted June 16, 2005, and officially filed June 23, 2005 for Group 936 Arizona.

This plat was prepared at the request of the Bureau of Indian Affairs, Western Region Office and Hopi.

The plat (2 sheets) representing the dependent resurvey of the south, east, west and north boundaries and the subdivisional lines, and the subdivision of sections 10, 18 and 30 and the metes-and-bounds survey of tract 37, Township 23 North, Range 19 East, accepted July 20, 2005 and officially filed July 28, 2005 for Group 927 Arizona.

This plat was prepared at the request of the Bureau of Indian Affairs, Navajo Regional Office.

The plat representing the survey of the south and north boundaries and the subdivisional lines, Township 27 North, Range 24 East, accepted July 19, 2005, and officially filed July 28, 2005, for Group 924 Arizona.

This plat was prepared at the request of the Bureau of Indian Affairs, Navajo Regional Office.

The plat representing the dependent resurvey of the south, east, west and north boundaries, and the subdivisional lines, Township 23 North, Range 26 East, accepted May 13, 2005, and officially filed May 19, 2005 for Group 886 Arizona.

This plat was prepared at the request of the Bureau of Indian Affairs, Navajo Regional Office.

The plat representing the survey of the east and west boundaries, and the subdivisional lines, Township 24 North, Range 26 East, accepted June 2, 2005, and officially filed June 14, 2005 for Group 886 Arizona.

This plat was prepared at the request of the Bureau of Indian Affairs, Navajo Regional Office.

The plat representing the dependent resurvey of the south, east and north boundaries, Township 23 North, Range 27 East, accepted June 22, 2005, and officially filed June 30, 2005 for Group 886 Arizona.

This plat was prepared at the request of the Bureau of Indian Affairs, Navajo Regional Office.

The plat representing the survey of the east boundary, the sectional correction line and subdivisional lines, Township 24 North, Range 27 East, accepted June 27, 2005, and officially filed July 7, 2005 for Group 886 Arizona.

This plat was prepared at the request of the Bureau of Indian Affairs, Navajo Regional Office.

The plat representing the survey of the seventh standard parallel north (south boundary), the east and north boundaries, and the subdivisional lines of Township 29 North, Range 27 East, accepted June 2, 2005, and officially filed June 14, 2005 for Group 902 Arizona.

This plat was prepared at the request of the Bureau of Indian Affairs, Navajo Regional Office.

The plat representing the dependent resurvey of the portion of the west and north boundaries, Township 22 North, Range 28 East, accepted June 2, 2005 and officially filed June 14, 2005 for Group 886 Arizona.

This plat was prepared at the request of the Bureau of Indian Affairs, Navajo Regional Office.

The plat representing the dependent resurvey of a portion of the Arizona-New Mexico State Line between the witness corner to mile post 120 and mile post 127 and a portion of the fifth standard parallel north (south boundary) and the west and north boundaries and the subdivisional lines and the subdivision of certain sections, Township 21 North, Range 31 East, accepted July 27, 2005, and officially filed August 4, 2005 for Group 899 Arizona.

This plat was prepared at the request of the Bureau of Indian Affairs, Navajo Regional Office.

The plat (4 sheets) representing the dependent resurvey of the south and west boundaries, subdivisional lines and a portion of the subdivision of section 33, and the subdivision of sections 19, 28 and 32, and a metes-and-bounds survey in sections 33 and 34, Township 23 North, Range 31 East, accepted June 2, 2005, and officially filed June 14, 2005 for Group 880 Arizona.

This plat was prepared at the request of the Bureau of Indian Affairs, Navajo Regional Office.

The plat (4 sheets) representing the dependent resurvey of a portion of the west and north boundaries and a portion of the subdivisional lines and the metes-and-bounds survey of the Beaver Dam Mountains wilderness area boundary through sections 5, 6 and 7, Township 41 North, Range 14 West, accepted June 30, 2005, and officially filed July 8, 2005 for Group 879 Arizona.

This plat was prepared at the request of the Bureau of Land Management.

The plat representing the dependent resurvey of a portion of the subdivision lines, and a metes-and-bounds survey in section 28, Township 21 North, Range 21 West, accepted June 7, 2005, and officially filed June 16, 2005, for Group 953 Arizona.

This plat was prepared at the request of the Bureau of Land Management.

The plat (2 sheets) representing a dependent resurvey of a portion of the subdivisional lines, the subdivision of sections 10 and 11 and the metes-and-bounds surveys in sections 10 and 11, Township 13 South, Range 12 East, accepted July 27, 2005, and officially filed August 8, 2005, for Group 918 Arizona.

This plat was prepared at the request of the National Park Service.

The plat (9 sheets) representing the dependent resurvey of the first standard parallel south, through a portion of Range 18 East (North Boundary) and a portion of the subdivisional lines, the dubdivision of sections 3, 14, 17, 20, 29, and 33, and the metes-and-bounds survey of the Aravaipa Canyon wilderness area boundary, Township 6 South, Range 18 East, accepted July 11, 2005, and officially filed July 21, 2005 for Group 860 Arizona.

This plat was prepared at the request of the Bureau of Land Management.

If a protest against a survey, as shown on any of the above plats is received prior to the date of official filing, the filing will be stayed pending consideration of the protest. A plat will not be officially filed until the day after all protests have been dismissed and become final or appeals from the dismissal affirmed.

A person or party who wishes to protest against any of these surveys must file a written protest with the Arizona State Director, Bureau of Land Management, stating that they wish to protest.

A statement of reasons for a protest may be filed with the notice of protest to the State Director, or the statement of reasons must be filed with the State Director within thirty (30) days after the protest is filed.

FOR FURTHER INFORMATION CONTACT: These plats will be available for inspection in the Arizona State Office, Bureau of Land Management, PO Box 1552, Phoenix, Arizona, 85001-1552.

Dated: August 18, 2005.
Stephen K. Hansen,
Acting Cadastral Chief.

[FR Doc. 05-16976 Filed 8-25-05; 8:45 am]

BILLING CODE 4310-32-P